DEPARTMENT OF THE INTERIOR

U.S. Geological Survey

[GX15RN00FUJA300]

Agency Information Collection Activities: Request for Comments

AGENCY: U.S. Geological Survey (USGS), Interior.

ACTION: Notice of a revision of a currently approved information collection, 1028-0048, Did You Feel It? Earthquake.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on May 31, 2015.

DATES: To ensure that your comments are considered, we must receive them on or before April 6, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0048, USGS Earthquake Data Report' in all correspondence.

FOR FURTHER INFORMATION CONTACT: David Wald, (303) 273-8441, wald@usgs.gov.

SUPPLEMENTARY INFORMATION:

I. Abstract

The U.S. Geological Survey is required to collect, evaluate, publish and distribute information concerning earthquakes. Respondents have an opportunity to voluntarily supply information concerning the effects of shaking from an earthquake—on themselves, buildings, other man-made structures, and ground effects such as faulting or landslides. Respondents' observations are interpreted in terms of numbers that measure the strength of shaking, and the resulting numbers are displayed on maps that are viewable from USGS earthquake Web sites. Observations are submitted via the Felt Report questionnaire accessed from the USGS Did You Feel It? Earthquake Web pages, and may be submitted via computer or mobile phone. Respondents are asked to provide information on the location to which the report pertains. The locations may, at the respondent's option, be given imprecisely (city-name or postal Zip Code) or precisely (street address, geographic coordinates, or current location determined by the user's mobile phone). Low resolution maps of shaking based on both precise and imprecise observations are published for all earthquakes for which observations are submitted. For earthquakes felt by many respondents, the observations that are associated with more precise locations are used in the preparation of higher resolution maps of earthquake shaking.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We will release data collected on these forms only in formats that do not include proprietary information volunteered by respondents.

II. Data

OMB Control Number: 1028-0048.

Form Number: 1028-0048.

Title: Earthquake Report (Did You Feel It? Earthquake).

Type of Request: Revision of a currently approved collection.

Affected Public: General Public.

Respondent's Obligation: None. Participation is voluntary.

Frequency of Collection: On occasion, after each earthquake.

Estimated Total Number of Annual Responses: Approximately 300,000 individuals, based on past experience, but strongly dependent on the number of moderate or large earthquakes occurring near population centers, which cannot be known in advance.

Estimated Time per Response: Six minutes, on average.

Estimated Annual Burden Hours: 30,000 hours.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Linda Pratt,
Geologic Hazards Science Center, Associate Director.

[FR Doc. 2015-02073 Filed 2-2-15; 8:45 am]

BILLING CODE 4311-AM-P